DEPARTMENT OF DEFENSE

Threat Reduction Advisory Committee; Notice of Federal Advisory Committee Meeting; Notice of Cancellation

AGENCY: Office of the Under Secretary of Defense (Acquisition, Technology and Logistics), Department of Defense.

ACTION: Federal Advisory Committee Meeting Notice; Notice of cancellation.

SUMMARY: On Monday, May 20, 2013 (78 FR 29334-29335), the Department of Defense published a notice announcing a June 12-13, 2013 meeting of the Threat Reduction Advisory Committee. This notice announces that the Department of Defense Threat Reduction Advisory Committee meeting scheduled for June 12-13, 2013 is hereby cancelled.

DATES: The meeting of the Threat Reduction Advisory Committee that was to be on Wednesday, June 12, from 9:00 a.m. to 5:00 p.m. and Thursday, June 13, 2013, from 8:45 a.m. to 2:00 p.m. is hereby cancelled.

FOR FURTHER INFORMATION CONTACT: Mr. William Hostyn, Committee's Designated Federal Officer, DoD, Defense Threat Reduction Agency/J2/5/8R-ACP, 8725 John J. Kingman Road, MS 6201, Fort Belvoir, VA 22060-6201. Email: william.hostyn@dtra.mil. Phone: (703) 767-4453. Fax: (703) 767-4206.

Dated: May 24, 2013.
Aaron Siegel,
Alternate OSD Federal Register Liaison Officer, Department of Defense.

[FR Doc. 2013-12852 Filed 5-29-13; 8:45 am]

BILLING CODE 5001-06-P